DEPARTMENT OF THE INTERIOR

Bureau of Indian Affairs

Notice of Intent To Prepare an Environmental Impact Statement for the Proposed Ione Band of Miwok Indians' Trust Acquisition and Casino Project, Amador County, CA

AGENCY: Bureau of Indian Affairs, Interior.

ACTION: Notice.

SUMMARY: This notice advises the public that the Bureau of Indian Affairs (BIA), with the cooperation of the Ione Band of Miwok Indians and the National Indian Gaming Commission (NIGC), intends to gather information necessary to prepare an Environmental Impact Statement (EIS) for a proposed casino project to be located within the City of Plymouth in Amador County, California. The purpose of the proposed project is to help provide for the economic development of the Ione Band. This notice also announces a public scoping meeting to identify potential issues and content for inclusion in the EIS.

DATES: Comments on the scope and implementation of this proposal must arrive by December 8, 2003. The public scoping meeting will be held on Wednesday, November 19, 2003, from 6 p.m. to 9 p.m. or until the last comment is received.

ADDRESSES: You may mail or hand carry written comments to Mr. Clay Gregory, Acting Regional Director, Pacific Region, Bureau of Indian Affairs, 2800 Cottage Way, Sacramento, California 95825. The public scoping meeting will be held at the Amador County Fairgrounds, 18621 Sherwood and School Streets, Plymouth, California.

FOR FURTHER INFORMATION CONTACT: Mr. William Allan, (916) 978-6043.

SUPPLEMENTARY INFORMATION: The Ione Band of Miwok Indians proposes that 208.06± acres of land be taken into trust and that a casino, parking, hotel and other facilities supporting the casino be constructed on the trust acquisition property. The gaming facility would be managed by IKON Group, LLC on behalf of the tribal government, pursuant to the terms of a management agreement between the tribal government and IKON Group, LLC. The BIA serves as the Lead Agency for National Environmental Policy Act (NEPA) compliance, with the NIGC, which is responsible for approval of the gaming management contract, acting as a Cooperating Agency.

The project site is located immediately east of Highway 49, and is within 2½ miles of State Highway 16. The City of Placerville is located approximately 20 miles north of the project site, which is also accessible from State Highway 49. The project site consists of 10 parcels of land totaling 208.06± acres. Eight of the 10 parcels (10.28± acres) are located within the City of Plymouth, while the remaining 2 parcels (197.78± acres) are located on unincorporated land within Amador County.

Phase I of the Proposed Action includes the development of a 120,000± square foot casino complex, which would consist of a porte cochere, main gaming hall, food and beverage services, retail space, and administration space. Approximately 65,000 square feet of this building space would be devoted to the main gaming hall, while the balance of the facility would include administration space, small retail shops and food/beverage facilities and a small gift and art shop. The entire complex would be built on land currently within the City of Plymouth. Primary access to the casino complex would be via State Highway 49.

Phase II of the Proposed Action includes the construction of a hotel (250 rooms maximum), which will include small conference style facilities together with food and beverage services. The proposed hotel would also be fitted with a dual plumbing system for the use of potable and recycled water. In addition, site parking would be increased to supply adequate parking for hotel and conference patrons. The hotel is anticipated to be operational no sooner than the middle of year 3-4 of the project. Primary vehicle access to the hotel would be provided by the main casino and surface-parking driveway.

Areas of environmental concern to be addressed in the EIS include land use, geology and soils, water resources, agricultural resources, biological resources, cultural resources, mineral resources, paleontological resources, traffic and transportation, noise, air quality, public health/environmental hazards, public services and utilities, hazardous materials and waste/worker safety, socio-economics, environmental justice, and visual resources/aesthetics. The range of issues addressed may be expanded based on comments received during the scoping process.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority

This notice is published in accordance with section 1503.1 of the Council on Environmental Quality regulations (40 CFR parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.

Dated: October 9, 2003.
Aurene M. Martin,
Principal Deputy Assistant Secretary—Indian Affairs.

[FR Doc. 03-28118 Filed 11-6-03; 8:45 am]

BILLING CODE 4310-W7-P